DEPARTMENT OF COMMERCE

International Trade Administration

[A-552-801]

Notice of Postponement of Preliminary Antidumping Duty Determination: Certain Frozen Fish Fillets From the Socialist Republic of Vietnam

AGENCY: Import Administration, International Trade Administration, Department of Commerce.

ACTION: Notice of postponement of preliminary determination of antidumping duty investigation.

EFFECTIVE DATE: August 27, 2002.

FOR FURTHER INFORMATION CONTACT: Alex Villanueva or Lisa Shishido, Import Administration, International Trade Administration, U.S. Department of Commerce, 14th Street and Constitution Avenue, NW., Washington, DC 20230; telephone: (202) 482-3208, (202) 482-1382, respectively.

SUMMARY: The Department of Commerce (“the Department”) is extending the time limit for the preliminary determination of the investigation of certain frozen fish fillets from the Socialist Republic of Vietnam (“Vietnam”).

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR part 351 (2002).

Postponement of Determination Results

The Department has determined that this case is extraordinarily complicated and additional time beyond the current December 5, 2002, deadline is necessary to make the preliminary determination. Completion of the preliminary results within the 190 day period is impracticable for the following reason: (1) This is the first antidumping duty investigation on imports from Vietnam; (2) The Department needs to determine whether Vietnam is to be treated as a market or a non-market economy for purposes of this antidumping duty investigation. The Department is postponing the preliminary determination until 190 days after initiation in accordance with section 733(c)(1)(B) of the Act.

Therefore, the preliminary determination is now due on January 24, 2003. The deadline for the final determination will continue to be 75 days after the date of the preliminary determination.

Dated: August 20, 2002.
Faryar Shirzad,
Assistant Secretary for Import Administration.

[FR Doc. 02-21768 Filed 8-26-02; 8:45 am]

BILLING CODE 3510-DS-P